DEPARTMENT OF TRANSPORTATION

Federal Highway Administration

Environmental Impact Statement; Stark, Mahoning, Columbiana Counties, OH

AGENCY: Federal Highway Administration (FHWA), DOT, 200 North High Street, 3rd Floor, Columbus, Ohio, 43215.

ACTION: Notice of Intent.

SUMMARY: The FHWA is issuing this notice to advise the public that an Environmental Impact Statement will be prepared for a proposed highway project in Stark, Mahoning, and Columbiana Counties, Ohio.

FOR FURTHER INFORMATION CONTACT: Andy Blalock, Senior Transportation Engineer, Federal Highway Administration, 200 N. High Street, Room 328, Columbus, Ohio 43215, Telephone: (614) 280-6823.

SUPPLEMENTARY INFORMATION: The FHWA, in cooperation with the Ohio Department of Transportation, will prepare an Environmental Impact Statement (EIS) for a proposal to improve transportation in the United States Route 62/State Route 14 corridor that begins at the existing SR173/US62 interchange on the west side of the City of Alliance (western terminus) in Stark County to State Route 11 (eastern terminus) in Columbiana County. The purpose of the project is to support local economic development activities, address traffic congestion, and fix existing deficiencies in the US62/SR14 transportation corridor. Alternatives under consideration will include, at a minimum: taking no action; building a 4-lane controlled access facility on new alignment; building a 2-lane facility within 4-lane right-of-way on new location; building a 2-lane facility within 2-lane right-of-way on new location; and improving/widening the existing roadway.

The limits of the study are from the SR173/US62 interchange west of Alliance to SR11 between the cities of Salem and Columbiana, a distance of approximately 22 miles. The US62/SR14 corridor passes through portions of Stark, Mahoning, and Columbiana counties. Through Alliance, the existing roadway consists of a five-lane section between the US62/SR173 interchange and Western Avenue, and a four-lane section from Western Avenue to a point near the eastern corporation limits. At this point, the existing roadway tapers to a two-lane section that continues out of Alliance and Stark County to follow the border between Mahoning and Columbiana counties and continuing toward Salem. The roadway then enters Columbiana County and continues through Salem, mostly as a two-lane roadway with auxiliary turn lanes at major intersections. A short section of the roadway on the eastern side of Salem is three lanes with two lanes running eastbound and one lane westbound.

The proposed improvement of US62/SR14 would meet the goals of ACCESS OHIO which is to improve the mobility along the macro-corridor in order to encourage economic development. Completion of Ohio's Macro Highway Corridor System was recommended in the 1993 ACCESS OHIO Macro Phase as an important goal for Ohio. Completion for these corridors was also recommended in Governor Taft's 2003 Jobs and Progress Plan and again recommended by ACCESS OHIO 2004-2030.

The existing US62/SR14 corridor has many deficiencies that contribute to a variety of transportation problems. These problems include poor levels of service at signals in both Alliance and Salem, high number of access points on US62 in both Alliance and Salem, high crash rates at existing intersections, and steep grades and tight curves, particularly between Salem and SR11. These inadequacies lead to safety problems, reduced levels of service, and transportation inefficiencies.

FHWA, ODOT, and other local agencies invite participation in defining the alternatives to be evaluated in the EIS, and any significant social, economic, or environmental issues related to the alternatives. Information describing the purpose of the project, the project area to be studied, the existing and future conditions of the project area, the public involvement plan, and the preliminary project schedule may be obtained from the FHWA at the address provided above.

Coordination with concerned federal, state, and local agencies will be conducted at five established concurrence points in ODOT's Project Development Process. Coordination will be continued throughout the study with Federal, State, and local agencies, and with private organizations and citizens who express or are known to have interest in this proposal. The draft EIS (DEIS) will be available for public and agency review and comment prior to the public hearing. The final EIS (FEIS) will be available for public and agency review and comment prior to the approval of the Record of Decision (ROD).

To ensure that the full range of issues relating to this proposed action are addressed, and all significant issues identified, comments and suggestions are invited from all interested parties. Comments or questions concerning this proposed action and the EIS should be sent to the FHWA at the address provided above.

(Catalog of Federal Domestic Assistance Program Number 20.205, Highway Planning and Construction. The regulations implementing Executive Order 12372 regarding intergovernmental consultation on Federal programs and activities apply to this program).

Victoria Peters,
Director, Office of Engineering Operations, Federal Highway Administration, Columbus, Ohio.

[FR Doc. 06-5217 Filed 6-7-06; 8:45 am]

BILLING CODE 4910-22-P